DEPARTMENT OF STATE

[Public Notice 6348]

Advisory Committee on International Economic Policy; Notice of Open Meeting

The Advisory Committee on International Economic Policy (ACIEP) will meet from 2 p.m. to 4 p.m. on Monday, September 29, 2008, at the U.S. Department of State, 2201 C Street NW., Room 1107, Washington, DC. The meeting will be hosted by Assistant Secretary of State for Economic, Energy, and Business Affairs Daniel S. Sullivan and Committee Chair Ted Kassinger. The ACIEP serves the U.S. Government in a solely advisory capacity, and provides advice concerning issues and challenges in international economic policy. The meeting will focus on “Policies, Programs and Total Economic Engagement with China”—with particular emphasis on the geopolitical relationship, post Beijing Olympics, and address the strategic economic dialogue including consumer safety issues and the Bilateral Investment Treaty (BIT) negotiations. An update on the Administration's trade priorities will also be given. Subcommittee reports and discussions will be led by the Strategic Regions Subcommittee and the Economic Sanctions Subcommittee.

This meeting is open to public participation, though seating is limited. Entry to the building is controlled; to obtain pre-clearance for entry, members of the public planning to attend should provide, by Thursday, September 25, their name, professional affiliation, valid government-issued ID number (i.e., U.S. Government ID [agency], U.S. military ID [branch], passport [country], or drivers license [state]), date of birth, and citizenship to Sherry Booth by fax (202) 647-5936, e-mail (BoothSL@state.gov), or telephone (202) 647-0847. One of the following forms of valid photo identification will be required for admission to the State Department building: U.S. driver's license, U. S. Government identification card, or any valid passport. Enter the Department of State from the C Street lobby. In view of escorting requirements, non-Government attendees should plan to arrive not less than 15 minutes before the meeting begins.

For additional information, contact Senior Coordinator Nancy Smith-Nissley, Office of Economic Policy Analysis and Public Diplomacy, Bureau of Economic, Energy and Business Affairs, at (202) 647-1682 or Smith-NissleyN@state.gov.

Dated: September 8, 2008.
Sandra E. Clark,
Office Director, Office of Economic Policy Analysis and Public Diplomacy, Department of State.

[FR Doc. E8-21477 Filed 9-12-08; 8:45 am]

BILLING CODE 4710-07-P